DEPARTMENT OF HEALTH AND HUMAN SERVICES

Administration for Children and Families

[CFDA Number: 93.092]

Announcing the Intent To Award Single-Source Expansion Supplement Grants to Two Personal Responsibility Education Program Innovative Strategies (PREIS) Grantees

AGENCY: Family and Youth Services Bureau, ACYF, ACF.

ACTION: This notice announces the intent to award single-source expansion supplement grants under the Personal Responsibility Education Program Innovative Strategies (PREIS) program to Children's Hospital of Los Angeles in Los Angeles, CA and Education Development Center, Inc. in Newton, MA.

SUMMARY: The Administration for Children and Families (ACF), Administration on Children, Youth and Families (ACYF), Family and Youth Services Bureau (FYSB), Adolescent Pregnancy Prevention Program, announces its intent to award a single-source expansion supplement grant of up to $151,265 to Children's Hospital of Los Angeles and up to $55, 917.20 to Education Development Center, Inc.

DATES: The period of support for the single-source expansion supplements is September 30, 2015, through September 29, 2016.

FOR FURTHER INFORMATION CONTACT: LeBretia White, Program Manager, Adolescent Pregnancy Prevention Program, Division of Adolescent Development and Support, Family and Youth Services Bureau, 330 C Street SW., Washington, DC 20201. Telephone: 202-205-9605; Email: LeBretia.White@acf.hhs.gov.

SUPPLEMENTARY INFORMATION: Children's Hospital of Los Angeles is funded under the Personal Responsibility Education Program Innovative Strategies (PREIS) program to adapt an existing evidence-based pregnancy prevention program for pregnant and parenting teens and rigorously evaluate the program for its impact on reducing repeat pregnancy. The supplemental award will be used to review, code, and analyze digital recordings, employ intensive tracking and follow up efforts with participants to administer the 36-month follow-up survey, conduct additional advanced analyses, develop manuscripts and briefs based on additional analyses, and disseminate study findings.

Education Development Center, Inc. is funded under the Personal Responsibility Education Program Innovative Strategies (PREIS) program to implement a parent education program for Latino youth (Salud y Exito/Health and Success) and to rigorously evaluate the intervention to determine impact on reducing sexual risk-taking behavior. The supplement award will be used to augment dissemination efforts for the intervention by developing a social media campaign to promote the intervention Web site and to analyze social media data to determine the campaign's reach.

Statutory Authority: The statutory authority for the award is Sec. 513 of the Social Security Act (42 U.S.C. 713). Sec. 2953 of the Patient Protection and Affordable Care Act of 2010 (Pub. L. 111-148) established PREP and funded it for FY 2010 through 2014. Sec. 206 of the Protecting Access to Medicare Act of 2014 (Pub. L. 113-93) extended that funding through FY 2015. Sec. 215 of the Medicare Access and CHIP Reauthorization Act of 2015 (Pub. L. 114-10) extended funding through FY 2017.

Christopher Beach,
Senior Grants Policy Specialist, Division of Grants Policy, Office of Administration, Administration for Children and Families.

[FR Doc. 2016-13698 Filed 6-9-16; 8:45 am]

BILLING CODE 8414-37-P